DEPARTMENT OF AGRICULTURE

Forest Service

Notice of Proposed New Fee Sites; Federal Lands Recreation Enhancement Act, (Title VIII, Pub. L. 108-447)

AGENCY: Mendocino National Forest, USDA Forest Service.

ACTION: Notice of proposed new fee sites.

SUMMARY: The Mendocino National Forest is proposing to charge new fees at 14 developed recreation sites. Fees are assessed based on the level of amenities and services provided, cost of operation and maintenance, market assessment, and public comment. The fees listed are only proposed and will be determined upon further analysis and public comment. Funds from fees would be used for the continued operation and maintenance of these recreation sites.

Pine Mountain Lookout will be available for overnight rental. The rental fee is recommended at $50 per night. Lookout rentals offer a unique experience and are a widely popular offering on National Forests. Pine Mountain was recently restored to maintain the lookout's eligibility to the National Register of Historic Places. Fees would continue to help protect and maintain lookouts and their historic integrity.

The following recreation sites are currently fee free but we are recommending fees be charged in the future: Davis Flat Campground, Dixie Glade Campground, Fouts Campground, Lake Red Bluff Boat Launch, Little Stony Campground, Mill Creek Campground, North Forth Campground, Sacramento River Boat Launch, South Fork Campground, Deer Valley Campground, Penny Pines Campground, Howard Lake Campground, Howard Meadows Campground, and Little Doe Campground. Improvements have been made at many of these campgrounds including installing new fire rings, picnic tables and some new toilets. Improvements at these campgrounds were to address sanitation and safety concerns, and improve deteriorating resource conditions and recreation experiences. A financial analysis is being completed to determine fee rates. The proposed fees to help maintain these sites would range between $5 and $8 a campsite.

DATES: New fees would begin after October 1, 2007. The lookout rental will be listed with the National Recreation Reservation Service.

ADDRESSES: Thomas A. Contreras, Forest Supervisor, Mendocino National Forest, 825 N. Humboldt Avenue, Willows, California 95988.

FOR FURTHER INFORMATION CONTACT: Jack Horner, Recreation Fee Coordinator, 530-934-3316. Information about proposed fee changes can also be found on the Mendocino National Forest Web site: http://www.fs.fed.us/r5/mendocino/recreation/index.html.

SUPPLEMENTARY INFORMATION: The Federal Recreation Lands Enhancement Act (Title VII, Pub. L. 108-447) directed the Secretary of Agriculture to publish a six month advance notice in the Federal Register whenever new recreation fee areas are established. These new fees will be reviewed by a Recreation Resource Advisory Committee prior to a final decision and implementation.

Dated: May 1, 2007.
Thomas A. Contreras,
Forest Supervisor.

[FR Doc. 07-2325 Filed 5-10-07; 8:45 am]

BILLING CODE 3410-11-M